DEPARTMENT OF HEALTH AND HUMAN SERVICES

Administration for Children and Families

Proposed Information Collection Activity: Unaccompanied Children Bureau Assessments for Children and Sponsors (Office of Management and Budget #: 0970-NEW)

AGENCY: Office of Refugee Resettlement, Administration for Children and Families, Department of Health and Human Services.

ACTION: Request for public comments.

SUMMARY: The Office of Refugee Resettlement (ORR), Administration for Children and Families (ACF), U.S. Department of Health and Human Services, is inviting public comments on the proposed information collection, including proposed changes. The request consists of several forms that will allow the Unaccompanied Children Bureau (UCB) to continue conducting statutorily mandated assessments of unaccompanied children in ORR care and custody as well as their sponsors. These assessments allow ORR to understand the status and needs of the child and their potential sponsor; assessment findings inform all decisions concerning the child's care while in ORR custody and eventual reunification with a sponsor.

DATES: Comments due February 28, 2025. In compliance with the requirements of the Paperwork Reduction Act of 1995, ACF is soliciting public comment on the specific aspects of the information collection described in this notice.

ADDRESSES: You can obtain copies of the proposed collection of information and submit comments by emailing infocollection@acf.hhs.gov. Identify all requests by the title of the information collection.

SUPPLEMENTARY INFORMATION:

Description: ORR has undertaken a reorganization of its information collections to promote operational efficiency. The reorganization will result in more collections that contain fewer forms under a single Office of Management and Budget (OMB) number. This request is to create a new information collection that contains forms associated with the provision of critical assessments to unaccompanied children and their sponsors. This information collection will contain seven forms transferred from one existing information collection and two new forms. The forms and the information collection under which they are currently approved are as follows:

• Services Provided to Unaccompanied Children (OMB #0970-0553)

○ Sponsor Assessment (Form S-5)

○ Adult Contact Profile (Form S-7)

○ Initial Intakes Assessment (Form S-8)

○ Assessment for Risk (Form S-9)

○ UC Assessment (Form S-11)

○ UC Case Review (Form S-12)

○ Individual Service Plan (Form S-13)

• Newly Developed Category 4 Initiative Forms:

○ Category 4 Reunification Case Review and Staffing (Form TBD-#)

○ Family Finding and Mobility Mapping (Form TBD-#)

These forms are completed by care provider case managers and clinicians at care provider facilities, and exclusively for the Sponsor Assessment (Form S-5), by unification specialists operating remotely. These forms assess the suitability of potential sponsors applying to reunify with an unaccompanied child; capture critical historical, biographic and medical data for children upon admission to the UCB care provider; assess the child for sexual abuse history and risk of abusive behavior towards others; review and update prior assessment data over time; and collaboratively identify potential sponsors for children without a viable sponsor (referred to as “Category 4” cases) utilizing child-friendly interactive techniques and extensive kinship network mapping. These forms are documentary in nature and a critical component of the child's case file. In addition to grouping forms related to Assessments together in this information collection, ORR is proposing the following revisions:

• Global Changes across all currently approved forms:

○ Replace “UC”, “UAC”, and “Minor” with “Child” or “Unaccompanied Child” wherever they appear

○ Update dropdown options for the “Gender” field, wherever it appears, to include male, female, and nonbinary

○ Replace “Primary” language with “Preferred”

○ Simplify certain fields that capture both date and time to only capture the date when hour and minute of completion/certification is immaterial

○ Include Physical Location of the Child field in the UC Basic Information section across all forms to conform with changes concurrently proposed in the Services Provided to Unaccompanied Children Information Collection (OMB# 0970-0553)

○ Minor terminology edits to conform with UCB style guide standards as established in the UC Program Foundational Rule (45 CFR 410) as well as to improve clarity and consistency with other form titles and/or fields

○ Add translator or interpreter certification to assessments requiring input directly from a child or sponsor, as relevant.

• Sponsor Assessment (Form S-5): Currently, there are two approved versions of this form-one for UC Portal and one for the UC Path system, which was never implemented. ORR plans to discontinue the UC Path version of this form, which was never deployed, and make the following revisions to the UC Portal version.

○ Add new Current Sponsor Status field to the Sponsor Assessment to provide a high-level progress status for each assessment to inform concurrent planning efforts to identify alternative sponsors and Case Review (Form S-12)

○ Add Date Sponsor Identified to Adult Contact Profile section to improve data tracking for program performance evaluation

○ Add “Mail—Letter from Unification Specialist” option to Sponsor Document Type dropdown menu in the document upload field

○ Revise “Substance Abuse Disclosed by Sponsor” under Criminal History and Background Checks Self Disclosure section to read “Legal issues related to drug or alcohol use (e.g., D.U.I, D.W.I, Possession, Manufacture, Distribution of controlled substances)” to better capture data concerning the sponsor's risk profile

○ Add several questions to the Care Plan section of the form to document the sponsor's awareness and ability to care for the child's healthcare needs

○ Add functionality to add multiple adult caregivers to the Care Plan section of the form and identify one as the current or primary caregiver

○ Add a sponsor-child debt attestation question to the Trafficking and Fraud section of the form to document the sponsor's understanding and intent to comply with ORR policy prohibiting the sponsor from seeking or collecting any financial renumeration from the child or their family or encouraging the child to work counter to child labor laws or without a legal permit

○ Rename “Summary Case Manager Assessment Tab” to “Sponsor Assessment Summary Tab” to reflect inclusion of the Unification Specialist role and emphasize that the summary step before certification of the form

○ Add Unification Specialist role, contact information, and recommendation fields to the “Summary Sponsor Assessment” section

○ Add an open text field that is triggered by conditional logic when the assessment is completed outside of the five-calendar day deadline, prompting the respondent to indicate a reason for the delay

○ Adjust the burden estimate to account for an increase in the number of children placed in ORR care thus increasing the number of potential sponsors assessed, reflect that the form is completed by four different groups of respondents, and to reflect a slight increase in the overall number of fields the respondents will need to complete. The annual number of Case Manager respondents increased from 216 to 300. The annual number of Unification Specialist respondents is estimated to be approximately 680, the annual number of Interpreter respondents is estimated to be 300; and the number of sponsors expected to participate in the assessment is expected to increase from 57,195 to 98,185. The annual number of responses per respondent changed as follows: the number of responses per sponsor remains unchanged at 1; the number of responses per Case Manager is expected to increase from 265 to 327; the number of responses per Unification Specialist is estimated to be 144; and the number of responses per Interpreter is estimated to be 327. The average burden hours per response remains unchanged at 1 hour, reflecting the minimal substantive changes described above.

• Adult Contact Profile (Form S-7): The Adult Contact Profile was developed for the UC Path case management system which was never implemented; the Adult Contact Profile is currently approved under the Services Provided to Unaccompanied Children information collection (OMB# 0970-0553) is being renewed with one substantive change. ORR plans to incorporate the adult contact profile with all UC Path features into the UC Portal case management system at a future date, which will allow ORR to establish unique UC Portal profiles for non-sponsor adults, such as household members, relatives in home country, and designated alternate caregivers. This will facilitate improved data tracking and flagging across cases should these individuals later apply to sponsor a child.

○ Remove the “Legal Status” question from the form as irrelevant and immaterial to facilitating better data tracking across cases

• Initial Assessment (Form S-8): Currently, there are two approved versions of this form-one for UC Portal and one for the UC Path system, which was never implemented. ORR plans to discontinue the UC Path version of this form, which was never deployed, and make the following revisions to the UC Portal version.

○ Add a field to document the child's preferred gender pronouns to initial intakes assessment section.

○ Clarify instructions to the respondent mandating the assessment to be completed within 24 hours of admission to the care provider program

○ Introduce questions related to languages spoken, fluency, and comprehension to document the child's understanding of the assessment questions

○ Add a field to the Family Information section to indicate if a relative might be a potential sponsor

○ Rephrase sensitive questions pertaining to mental health concerns using more specific and child-friendly terms and eliminating redundant questions

○ Adjust the burden estimate to account for a projected increase in the number of children placed in ORR care since the form's last renewal and reflect that the form is completed by three different potential respondents with input from the child. The annual number of Case Manager respondents is expected to increase from 216 to 300, the annual number of Clinician respondents is estimated to be 300, the annual number of Interpreter respondents is estimated to be 300, and the number of children projected to be referred in FY 2025 is expected to increase from 60,048 to 98,185. The annual number of responses per respondent changed as follows: the number of responses per child remains unchanged at 1, the number of responses per Case Manager is expected to decrease from 265 to 164, the number of responses per Clinician is estimated to be 164, and the number of responses per Interpreter is estimated to be 327. The average burden hours per response remains unchanged at .33 hours, reflecting the minimal substantive changes described above.

• Assessment for Risk (Form S-9): Currently, there are two approved versions of this form-one for UC Portal and one for the UC Path system, which was never implemented. ORR plans to discontinue the UC Path version of this form, which was never deployed, and make the following revisions to the UC Portal version.

○ Clarify terminology concerning the purpose of the assessment in the instructions to the respondent

○ Revise question text in the following ways:

Include more specific and child-friendly terminology concerning sensitive topics related to sexual activity and sexual abuse history

Incorporate inclusive terminology concerning gender identity and expression

Incorporate “suspected or diagnosed” terminology to questions pertaining to disabilities

○ Add fields to document the following:

If the child would like to be referred to a mental health counselor or clinician to discuss their past sexual activity and/or sexual abuse history

If the child or caretaker in home country report any issues with the child's ability to carry out tasks of daily living that may affect the child's housing assignment while in ORR care

The creation of an individual 504 plan under the “Actions Taken” question of the “Housing,” “Other Service Assignments,” and “Follow-Up” Section

• Adjust the burden estimate to account for a projected decrease in the number of children placed in ORR care since the form's last renewal and reflect that the form is completed by three different potential respondents with input from the child. The annual number of Case Manager respondents is expected to increase from 216 to 300, the annual number of Clinician respondents is estimated to be 300, the annual number of Interpreter respondents is estimated to be 300, and the number of children projected to be referred in FY 2025 is expected to decrease from 120,096 to 98,185. The annual number of responses per respondent changed as follows: the number of responses per child remains unchanged at 1, the number of responses per Case Manager is expected to decrease from 556 to 164, the number of responses per Clinician is estimated to be 164, and the number of responses per Interpreter is estimated to be 327. The average burden hours per response remains unchanged at .75 hours, reflecting the minimal substantive changes described above.

Unaccompanied Child Assessment (Form S-11): ORR currently maintains two approved versions of this form under the Services Provided to Unaccompanied Children information collection (OMB# 0970-0553), one version for the UC Portal case management system currently in use, and a second version developed for the UC Path system which was never implemented. ORR plans to discontinue the UC Path version of the Unaccompanied Child Assessment, which was never deployed, renewing only the UC Portal version with the changes described below:

○ Add the following fields to the Journey and Apprehension section:

What neighbors or other people were important in your daily life in COO?

Did someone you know come to the U.S. before you and tell you about opportunities?

Did you meet any adults along the journey with whom you built a trusting relationship? If yes, what are their names and where are they now?

Who are some trusted adults that the child knows at their intended destination?

As a sub-question to “Have you been to the U.S. before?”—Ask: “if yes, with whom did you live?”

○ Under the Family/Significant Relationships section, add:

Name, address, contact, and relationship of parent or legal guardian fields

Field to capture current address/residence of other family remaining in country of origin

Fields to capture contact info and indicate sponsorship potential of identified friends and/or family residing in the U.S.

A field to document any family members who previously lived in the U.S., their dates of residence and if they maintain contact with any former U.S.-based contacts

○ Revise Medical Assessment questions to capture more specific health status and health concern data as follows:

Adding fields related to current health status, allergies, diet, mobility, and the child's need for assistance with daily activities

Add field to capture if the child has any health concerns they'd like to discuss with a health care provider

Add fields to capture data concerning any medication the child arrived with, their prescribed dosing interval and last dose administered

○ Add the following question to the Education section: “Have you ever been diagnosed with a learning disability (dyslexia, dysgraphia, auditory processing disorder, etc.)? (Yes/No) If yes, specify”

○ Update terminology concerning the ORR mandated Legal Screening to read “Confidential Legal Consultation”, as required by the UCB Foundational Rule (45 CFR 410)

○ Revise the Mental Health section of the form as follows:

Add “Future Oriented” option to Thought Process field

Revise terminology throughout and split compound questions into simpler, distinct questions to improve child-friendliness of the assessment and the specificity of their responses

Add question concerning the use of inhalants to the Substance Use History sub-section

○ Revise the Trafficking section, adding questions to document contacts with others that the child made during their journey to the U.S. and capture their contact information

○ Add explanatory text to the Americans with Disabilities Act of 1990, 42 U.S.C. 12102(1) citation under the Trafficking Victims Protection Reauthorization Act (TVPRA) section and the subsequent question documenting disability concerns that require further evaluation

○ Add document upload field to Additional Information section to link the child's journey mapping file to the UC Assessment

○ Adjust the burden estimate to account for a projected decrease in the number of children placed in ORR care since the form's last renewal and reflect that the form is completed by three different potential respondents with input from the child. The annual number of Case Manager respondents is expected to increase from 216 to 300, the annual number of Clinician respondents is estimated to be 300, the annual number of Interpreter respondents is estimated to be 300, and the number of children projected to be referred in FY 2025 is expected to decrease from 120,096 to 98,185. The annual number of responses per respondent changed as follows: the number of responses per child remains unchanged at 1, the number of responses per Case Manager is expected to decrease from 556 to 164, the number of responses per Clinician is estimated to be 164, and the number of responses per Interpreter is estimated to be 327. The average burden hours per response is expected to increase from 2.0 to 2.25 hours, reflecting the addition of new fields described above.

• Unaccompanied Child Case Review (Form S-12): Currently, there are two approved versions of this form-one for UC Portal and one for the UC Path system, which was never implemented. ORR plans to discontinue the UC Path version of this form, which was never deployed, and make the following revisions to the UC Portal version.

○ Revise the Medical Section with the following:

Remove the following fields:

“List any allergies”

“Do you feel unwell”

“If yes, what are your symptoms?”

“Additional medical information”

Entire Medical History Checklist as redundant to information captured in the UC Portal Health Tab

Entire Medication History subsection as redundant to information captured in the UC Portal Health Tab

Add the following fields:

“Does the child have any health concerns (medical, mental health, dental) that have not been evaluated by a healthcare professional? If yes, specify:”

“Does the child have any health-related travel restrictions? If yes, specify:”

“Provide a short summary of the child's medical and/or psychological functioning:”

“If the child is ready for discharge, does the child have any health problems, including dental and mental health, that requires follow-up after release from ORR care? If yes, specify:”

“Describe follow-up care plan:”

○ Replace “Legal Screening” with “Confidential Legal Consultation” consistent with the UC Program Foundational Rule (45 CFR 410).

○ Remove all fields from the “Mental Health” section to avoid duplication under the “Medical” section and remove “Axis” evaluation terminology which no longer conforms to standard psychiatric practice as specified in the 5th edition of the Diagnostic and Statistical Manual (DSM-V).

○ Revise the Trafficking Section as follows:

Add auto-populated fields added to Unaccompanied Child Assessment (Form S-11) to capture who the child met along their journey and if they have their contact information

○ Revise the TVPRA section as follows:

Mirror changes to the TVPRA section as pertaining to the addition of explanatory text for the Americans with Disabilities Act of 1990 and related fields.

Add fields to document the recommended level of post-release services and type of home study

○ Revise the Recommendation section to include a concurrent planning subsection capturing the following:

If the case is undergoing concurrent planning

Name, contact info, sponsor category, and status of additional potential sponsors

○ Revise Care plan section as follows:

Add fields to capture and distinguish Unification Specialist, Clinician, and Case Manager comments

Remove Legal comments as field duplicates information collected in Legal section

○ Adjust the burden estimate to account for a projected decrease in the number of children placed in ORR care since the form's last renewal and reflect that the form is completed by three different potential respondents. The annual number of Case Manager respondents is expected to increase from 216 to 300, the annual number of Clinician respondents is estimated to be 300, the annual number of Unification Specialist respondents is estimated to be 300, and the number of children projected to be referred in FY 2025 is expected to decrease from 120,096 to 98,185. The annual number of responses per respondent changed as follows: the number of responses per Case Manager is expected to decrease from 556 to 164, the number of responses per Clinician is estimated to be 164, and the number of responses per Unification Specialist is estimated to be 144. The average burden hours per response is expected to decrease from 2.0 to .5 hours, reflecting the removal of numerous fields described above.

• Individual Service Plan (Form S-13): Two versions of this form are approved under the Services Provided to Unaccompanied Children information collection (OMB# 0970-0553), one associated with the UC Portal case management system, and another designed for the UC Path system which was never implemented. ORR plans to discontinue the UC Path version of this form, which was never deployed, and incorporate features from the UC Path version into UC Portal with this transfer. ORR has made the following modifications to the form:

○ Add a field to the Data Entry-Admission Assessment Individual Service Plan to identify if the child has a 504 Service Plan to document any services or accommodations needed due to their disability status.

○ Add the following auto-populated and system generated fields to the UC Portal Individual Service Plan display window:

Assessment Status

Does the child have a 504 Service Plan?

Submitted Date

○ Remove certain fields native to the UC Path system which do not have a corresponding feature or function in the UC Portal:

Under New Admission Assessment Section:

Assessment ID

Admission

Under New Service Mandatory Section:

Contract Number (SYSTEM GENERATED)

Individual Service Plan (SYSTEM GENERATED)

Name (AUTO-POPULATE)

Under Document Upload Tab Section:

Verified by Government Agency/Consulate

Entity

Individual

Adult Contact Relationship

Under Certification by Case Manager Section:

Legacy ID (SYSTEM GENERATED)

○ Revise the Legal Orientation task from “Legal Screening” to “Confidential Legal Consultation” to conform with terminology presented in the UC Program Foundational Rule (45 CFR 410)

○ Replace “Contract” with “Service” where it appears on the form

○ Display content entered in the New Contract “Notes” field to each internet Service Provider Service

○ Adjust the burden estimate to account for a projected decrease in the number of children placed in ORR care since the form's last renewal and reflect that the form is completed by three different potential respondents with input from the child. The annual number of Case Manager respondents is expected to increase from 216 to 300, the annual number of Clinician respondents is estimated to be 300, the annual number of Interpreter respondents is estimated to be 300, and the number of children projected to be referred in FY 2025 is expected to decrease from 120,096 to 98,185. The annual number of responses per respondent changed as follows: The number of responses per Case Manager is expected to decrease from 694 to 167, the number of responses per Clinician is estimated to be 167, and the number of responses per Translator is estimated to be 327. The average burden hours per response remains unchanged at .33 hours reflecting the minimal substantive changes described above.

• Category 4 Reunification Case Review and Staffing (Form TBD-#): This is a new form created by ORR to support sponsor identification and outreach for children designated “Category 4” or without a viable sponsor. The form is completed by the care provider case manager, and in complex cases, by the care provider clinician in response to the child's Mobility Map, also submitted for approval under this information collection. The contents of the form, once complete, are shared with a concurrent planning team comprised of the care provider Case Manager, Supervising Case Manager, Clinician, Case Coordinator, and Federal Field Specialist at a staffing meeting to discuss findings and develop a permanency action plan to identify a qualified sponsor for the child. The burden estimate for this form is as follows:

○ ORR estimates, based on historic averages that approximately 35,347 children or 36 percent of cases referred to ORR care and custody in FY 2025 will be designated “Category 4” at some point during their length of care. The number of case managers completing the form is estimated to be 300 annually, the number of clinicians completing the form is estimated to be 300 annually. The average number of responses per respondent is estimated to be approximately 147 per case manager and approximately 74 per clinician as clinicians will only complete the form if the case is deemed “complex” due to extended length of stay, medically fragile status of the child, trafficking, abuse, or neglect history concerns, or other extenuating circumstances that may make reunification with a vetted sponsor more difficult. The average burden hour per response associated with this form is estimated to be 1.88 hours for standard, non-complex cases involving only the child's case manager and 2.5 hours for complex cases requiring the involvement of a clinician.

• Family Finding and Mobility Mapping (Form TBD-#): This form is an instructional guide for use by care provider case managers and clinicians to facilitate the creation of a “Mobility Map” by a Category 4 child. The mobility map is a visual representation of the child's life in their home country and their journey to the U.S., which is intended to identify parents, legal guardians, extended family members, family friends, kinship networks, and other potential sponsor leads as well as identify potential sponsor fraud and parental rights violations. The Mobility Map is created by the child in response to child-friendly questions and facilitative techniques deployed by a care provider case manager, and potentially a clinician if the child's case is complex. The Family Finding and Mobility Mapping Guide provides instructions to care provider staff to engage the child safely and effectively in this Participatory Learning and Action process. The burden estimate for the Mobility Map is as follows:

○ ORR estimates, based on historic averages that approximately 35,347 children or 36 percent of cases referred to ORR care and custody in FY 2025 will be designated “Category 4” at some point during their length of care The number of children completing the form is estimated to be approximately 35,247, the number of case managers completing the form is estimated to be approximately 300, and the number of clinicians completing the form is estimated to be approximately 300. The average number of responses per respondent is estimated to be approximately 1.5 per child, approximately 177 per case manager and approximately 88 per clinician as clinicians will only participate in the Mobility Mapping process if the case is deemed “complex” due to extended length of stay, medically fragile status of the child, trafficking, abuse, or neglect history concerns, or other extenuating circumstances that may make reunification with a vetted sponsor more difficult. The average burden hour per response associated with this form is estimated to be 1.5 hours for the each of the respondents, including the child, case manager, and clinician.

Respondents: ORR grantee and contractor staff, unaccompanied children, and their sponsors.

Annual Burden Estimates
Form | Annual number of respondents | Number of responses per respondent | Average burden hours per response | Annual total burden hours
Sponsor Assessment (Form S-5)—Sponsor | 98,185 | 1.0 | 1.00 | 98,185.0
Sponsor Assessment (Form S-5)—Case Manager | 300 | 327.0 | 1.00 | 98,100.0
Sponsor Assessment (Form S-5)—Unification Specialist | 680 | 144.0 | 1.00 | 97,920.0
Sponsor Assessment (Form S-5)—Interpreter | 300 | 327.0 | 1.00 | 98,100.0
Adult Contact Profile (Form S-7)—Unification Specialist | 680 | 144.0 | 0.75 | 73,440.0
Initial Assessment (Form S-8)—Case Manager | 300 | 164.0 | 0.33 | 16,236.0
Initial Assessment (Form S-8)—Clinician | 300 | 164.0 | 0.33 | 16,236.0
Initial Assessment (Form S-8)—Child | 98,185 | 1.0 | 0.33 | 32,401.0
Initial Assessment (Form S-8)—Interpreter | 300 | 327.0 | 0.33 | 32,373.0
Assessment for Risk (Form S-9)—Case Manager | 300 | 164.0 | 0.75 | 36,900.0
Assessment for Risk (Form S-9)—Clinician | 300 | 164.0 | 0.75 | 36,900.0
Assessment for Risk (Form S-9)—Child | 98,185 | 1.0 | 0.75 | 73,639.0
Assessment for Risk (Form S-9)—Interpreter | 300 | 327.0 | 0.75 | 73,575.0
Unaccompanied Child Assessment (Form S-11)—Case Manager | 300 | 164.0 | 2.25 | 110,700.0
Unaccompanied Child Assessment (Form S-11)—Clinician | 300 | 164.0 | 2.25 | 110,700.0
Unaccompanied Child Assessment (Form S-11)—Child | 98,185 | 1.0 | 2.25 | 220,917.0
Unaccompanied Child Assessment (Form S-11)—Interpreter | 300 | 327.0 | 2.25 | 220,725.0
Unaccompanied Child Case Review (Form S-12)—Case Manager | 300 | 327.0 | 0.50 | 49,050.0
Unaccompanied Child Case Review (Form S-12)—Clinician | 300 | 327.0 | 0.50 | 49,050.0
Unaccompanied Child Case Review (Form S-12)—Unification Specialist | 680 | 144.0 | 0.50 | 48,960.0
Individual Service Plan (Form S-13)—Case Manager | 300 | 164.0 | 0.33 | 16,236.0
Individual Service Plan (Form S-13)—Clinician | 300 | 164.0 | 0.33 | 16,236.0
Individual Service Plan (Form S-13)—Interpreter | 300 | 327.0 | 0.33 | 32,373.0
Category 4 Reunification Case Review and Staffing (Form TBD-#)—Case Manager | 300 | 147.0 | 1.88 | 82,688.0
Category 4 Reunification Case Review and Staffing (Form TBD-#)—Clinician | 300 | 74.0 | 2.50 | 55,500.0
Family Finding and Mobility Mapping (Form TBD-#)—Child | 35,347 | 2.0 | 1.50 | 106,041.0
Family Finding and Mobility Mapping (Form TBD-#)—Case Manager | 300 | 177.0 | 1.50 | 79,650.0
Family Finding and Mobility Mapping (Form TBD-#)—Clinician | 300 | 88.0 | 1.50 | 39,600.0
Estimated Annual Burden Hours Total |  |  |  | 1,728,226.0

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 6 U.S.C. 279; 8 U.S.C. 1232.

Mary C. Jones,
ACF/OPRE Certifying Officer.

[FR Doc. 2024-31129 Filed 12-27-24; 8:45 am]

BILLING CODE 4184-45-P